DEPARTMENT OF TRANSPORTATION

Federal Aviation Administration

Notice of Intent To Rule on Request To Release Airport Property at the Monroe Regional Airport at Monroe, Louisiana

AGENCY: Federal Aviation Administration (FAA), DOT.

ACTION: Notice of Request to Release Airport Property.

SUMMARY: The FAA proposes to rule and invite public comment on the release of land at the Monroe Regional Airport at Monroe, Louisiana under the provisions of Section 125 of the Wendell H. Ford Aviation Investment Reform Act for the 21st Century (AIR 21).

DATES: Comments must be received on or before July 22, 2016.

ADDRESSES: Comments on this application may be mailed or delivered to the FAA at the following address: Mr. Lacey Spriggs, Manager, Federal Aviation Administration, Southwest Region, Airports Division, Louisiana/New Mexico Airports District Office, ASW-640, 10101 Hillwood Parkway, Fort Worth, Texas 76177.

In addition, one copy of any comments submitted to the FAA must be mailed or delivered to the Mr. Ron Phillips, Airport Manager, at the following address: 5400 Operations Road, Monroe, Louisiana 71203.

FOR FURTHER INFORMATION CONTACT: Mr. Bill Bell, Lead Engineer, Federal Aviation Administration, Louisiana/New Mexico Airports District Office, ASW-640, 10101 Hillwood Parkway, Fort Worth, Texas 76177, Telephone: (817) 222-5664, email: Bill.Bell@faa.gov, fax: (817) 222-5987.

The request to release property may be reviewed in person at this same location.

SUPPLEMENTARY INFORMATION: The FAA invites public comment on the request to release property at the Monroe Regional Airport at Monroe, Louisiana under the provisions of the AIR 21.

The following is a brief overview of the request:

The City of Monroe, Louisiana requests the release of 2.2 acres of non-aeronautical airport property. The land was acquired by Deed from the United States dated September 8, 1949. The property to be released will be sold and the funds will be used for the Airport's Bermuda Release program and purchase of a new tractor.

Any person may inspect the request in person at the FAA office listed above under FOR FURTHER INFORMATION CONTACT.

In addition, any person may, upon request, inspect the application, notice and other documents relevant to the application in person at the Monroe Airport, Monroe, Louisiana, telephone number (318) 329-2460.

Ignacio Flores,
Manager, Airports Division.

[FR Doc. 2016-14635 Filed 6-22-16; 8:45 am]

BILLING CODE 4910-13-P